DEPARTMENT OF COMMERCE

International Trade Administration

(A-570-863)

Honey from the People's Republic of China: Expedited Partial Final Results of Antidumping Duty Administrative Review

AGENCY: Import Administration, International Trade Administration, Department of Commerce.

SUMMARY: On January 3, 2007, the Department published the Preliminary Results of the fourth administrative review of the antidumping duty order on honey from the People's Republic of China (PRC). See Honey from the People's Republic of China: Preliminary Results and Partial Rescission of Antidumping Duty Administrative Review, 72 FR 102 (January 3, 2007) (Preliminary Results). This review covers five exporters or producer/exporters: (1) Anhui Honghui Foodstuff (Group) Co., Ltd. (Anhui Honghui); (2) Chengdu Waiyuan Bee Products Co., Ltd. (Chengdu); (3) Jiangsu Kanghong Natural Healthfoods Co., Ltd. (Jiangsu); (4) Kunshan Xin'an Trade Co., Ltd. (Kunshan Xin'an); and (5) Wuhan Shino-Food Trade Co., Ltd. (Shino-Food). The period of review (POR) is December 1, 2004, through November 30, 2005.

In response to a request from the American Honey Producers Association and the Sioux Honey Association (collectively, petitioners), the Department is expediting the final results of this review for Chengdu, an uncooperative respondent, because of its extraordinary surge of exports and the significant difference between Chengdu's current cash deposit rate of 22.03 percent and Chengdu's preliminary cash deposit rate of 212.39 percent based on total facts available with adverse inference.

EFFECTIVE DATE: April 2, 2007.

FOR FURTHER INFORMATION CONTACT: Judy Lao or Angelica Mendoza, AD/CVD Operations, Office 7, Import Administration, International Trade Administration, U.S. Department of Commerce, 14th Street and Constitution Avenue, NW, Washington, DC 20230; telephone: (202) 482-7924 or (202) 482-3019, respectively.

SUPPLEMENTARY INFORMATION:

Background

Since the Preliminary Results the following events have occurred. On January 12 and 29, 2007, counsel to the petitioners met with Department officials to discuss their concerns about a surge in entries by Chengdu and resultant injury to the domestic honey industry. See Memoranda to the File dated January 18 and 29, 2007, respectively. Subsequently, the petitioners filed a request that the Department expedite the final results of review with respect to Chengdu. See Letter from the petitioners to the Secretary, dated February 6, 2007. In their request, the petitioners argue that Chengdu has “misused” the lowest cash deposit rate for any Chinese exporter of honey (22.03 percent) to ship huge quantities to the United States, causing immense harm to the domestic industry, while refusing to participate in administrative reviews.¹

¹ Chengdu did not request a review for the fifth review period of 12/1/2005-11/30/2006.

On February 7, 2007, the Department informed counsel to Chengdu of the petitioners' submission and our decision to accept the new information contained therein. We indicated that any comments on the submission were due on February 16, 2007. See Memorandum to the File from Patrick Edwards dated February 7, 2007. On February 15, 2007, the Department received a letter from Chengdu stating that its U.S. customer had informed them of the petitioners' letter dated February 7, 2007, and requesting an opportunity to comment or provide its own data to verify the accuracy of the petitioners' information. On February 16, 2007, the counsel of record for Chengdu notified the Department that it does not represent Chengdu. On the same day, the Department sent a letter via facsimile to Chengdu extending the comment period until February 23, 2007. On February 23, 2007, the Department received a facsimile letter from Chengdu restating some of the same points made in its previous letter but providing no new information. The letter was not properly filed and the Department gave Chengdu until February 26, 2007, to file its letter for the record. However, Chengdu did not submit its letter until March 5, 2007, and the Department rejected it as untimely. See Letter to Chengdu dated March 5, 2007.

On February 28, 2007, the Department issued a Decision Memorandum expediting the final results of review for Chengdu and extending the deadline for case briefs for all parties in this review until March 14, 2007, and for rebuttal briefs until March 21, 2007. See Memorandum to David M. Spooner, Assistant Secretary for Import Administration, from Stephen J. Claeys, Deputy Assistant Secretary for Import Administration, Expedited Final Results of Administrative Review for Chengdu Waiyuan Bee Products Co., Ltd. (February 28, 2007) (Decision Memo). No comments with respect to the expedited final results for Chengdu were filed.

According to section 751(a)(3) of the Tariff Act of 1930, as amended (the Act), the Department “shall make . . . a final determination . . . within 120 days after the date on which the preliminary determination is published.” See also 19 CFR § 351.213(h)(1). The Department's normal practice is to issue a final determination for all companies simultaneously. In this case, however, extraordinary circumstances support our issuance of the final results of this review with respect solely to Chengdu prior to 120 days after publication of the preliminary results. Specifically, the surge in Chengdu's shipments, its failure to participate in administrative reviews to enable the Department to calculate a dumping margin, and the large difference between the current cash deposit rate and the rate assigned to Chengdu in the preliminary results of this review constitute extraordinary circumstances in support of expediting the final results for Chengdu. We believe that under these extraordinary circumstances a departure from our normal practice is warranted. For further analysis, see the proprietary version of Decision Memo.

Scope of the Antidumping Duty Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under the order is dispositive.

Rate for Chengdu

The PRC-wide rate applies to all PRC entities with the exception of those exporters that have demonstrated their eligibility for a separate rate. While Chengdu failed to demonstrate its eligibility for a separate rate on the record of this review, and thus is considered to be part of the PRC entity, the Department has determined that circumstances warrant expedited final results of review solely with respect to Chengdu. As a result, for these expedited final results, the Department is issuing a rate applicable solely to Chengdu.

In its preliminary results, the Department assigned a rate to the PRC-wide entity (including Chengdu) based on adverse facts available (AFA). No party to the proceeding commented on the rate to be assigned to Chengdu for purposes of the final results. Based upon our review of the record, the Department will continue to assign the rate of 212.39 percent to Chengdu, which is the rate assigned to the PRC-wide entity (including Chengdu) in the preliminary results. The final PRC-wide rate will be determined in the final results of review that will cover all entities other than Chengdu. These non-expedited final results of review are currently due for issuance by May 3, 2007.

Final Results of Review

We determine that the following antidumping duty margin applies:

Producer/Exporter | Margin (percent)
Chengdu Waiyuan Bee Products Co., Ltd. | 212.39

Assessment of Antidumping Duties

Pursuant to 19 CFR 351.212(b), the Department will determine, and U.S. Customs and Border Protection (CBP) shall assess, antidumping duties on all appropriate entries. The Department intends to issue assessment instructions to CBP 15 days after the date of publication of these final results of review.

Cash Deposits

The following cash-deposit requirements will be effective upon publication of these expedited partial final results for shipments of the subject merchandise entered, or withdrawn from warehouse, for consumption on or after the publication date of these partial final results, as provided by section 751(a)(2)(C) of the Act: (1) for subject merchandise exported by Chengdu, the cash deposit rate will be 212.39 percent; (2) the cash deposit rate for PRC exporters who received a separate rate in a prior segment of the proceeding will continue to be the rate assigned in that segment of the proceeding; (3) for all other PRC exporters of subject merchandise which have not been found to be entitled to a separate rate, the cash-deposit rate will be the PRC-wide rate of 212.39 percent; and (4) for all non-PRC exporters of subject merchandise, the cash-deposit rate will be the rate applicable to the PRC supplier of that exporter. These deposit requirements shall remain in effect until publication of the final results of this administrative review for Anhui Honghui, Jiangsu, Kunshan Xin'an, Shino-Food and companies subject to the PRC-wide rate with the exception of Chengdu. For Chengdu, these deposit requirements shall remain in effect until publication of the final results of the next administrative review.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

This determination is issued and published in accordance with sections 751(a)(1) and 777(i)(1) of the Act.

Dated: March 27, 2007.
David M. Spooner,
Assistant Secretary for Import Administration.

[FR Doc. E7-6069 Filed 3-30-07; 8:45 am]

BILLING CODE 3510-DS-S